DEPARTMENT OF AGRICULTURE

Agricultural Research Service

Notice of Intent To Seek OMB Approval To Collect Information: Forms Pertaining to the Peer Preview of ARS Research Projects

AGENCY: Agricultural Research Service (ARS), USDA.

ACTION: Notice and request for comments.

SUMMARY: The proposed information collection requirement described below will be submitted to the Office of Management and Budget (OMB) for review, as required by the Paperwork Reduction Act of 1995 and OMB implementing regulations. The Department is soliciting public comments on the subject proposal.

DATES: Written comments on this notice must be received by February 22, 2016.

ADDRESSES: Address all comments concerning this notice to: Michael S. Strauss, Peer Review Program Coordinator, Office of Scientific Quality Review (OSQR); Agricultural Research Agency, USDA; 5601 Sunnyside Avenue, Beltsville, Maryland 20705; Phone: 301-504-3283; Fax: 301-504-1251.

FOR FURTHER INFORMATION CONTACT: Michael S. Strauss, 301-504-3283.

SUPPLEMENTARY INFORMATION: The OSQR will seek approval from OMB to update six existing forms and one new form that will allow the ARS to efficiently manage data associated with the peer review of agricultural research. All forms are transferred and received in an electronic storage format that does not include online access.

Abstract: The OSQR was established in September of 1999 as a result of the Agricultural Research, Extension, and Education Reform Act 1998 (“The Act”) (Pub. L. 105-185). The Act included mandates to perform scientific peer reviews of all research activities conducted by the USDA. The Office manages the ARS peer review system by centrally planning peer panel reviews for ARS research projects on a 5-year cycle.

Each set of reviews is assigned a chairperson to govern the review process. Peer reviewers are, with few exceptions, non-ARS scientists. Peer review panels are convened to provide in-depth discussion and review of the research project plans. Each panel reviewer receives information on between 1 and 5 ARS research projects.

On average, 165 research projects are reviewed annually by an estimated 200 reviewers; whereby approximately 155 are reviewed by panel and approximately 15 are reviewed through an ad hoc (written review) process. The organization and management of this peer review system, particularly panel reviews, is highly dependent on the use of forms.

The OSQR will seek OMB approval of the following forms:

1. Confidentiality Agreement Form—USDA uses this form to document that a selected reviewer is responsible for keeping confidential any information learned during the subject peer review process. The Confidentiality Agreement is signed prior to the reviewer's involvement in the peer review process. This form requires an original signature. Electronically transmitted scans of signed forms are also accepted.

2. Panelist Information Form—USDA uses this form to gather up-to-date background information about the reviewer as well as information relevant to the paying of an honorarium and for travel, where appropriate. Reviewers often include sensitive information on this form and, thus it is not retained or recorded in electronic form by the OSQR.

3. Peer Review of an ARS Research Project Form (Peer Review Form)—USDA uses this form to guide the reviewer's in-depth written comments on the subject project. The form contains the reviewing criteria and space for the reviewer's narrative comments and evaluation.

3. Reviewer Comment Form (New). This form is supplied to members of a panel not receiving the above Peer Review Form to provide a vehicle whereby they may record comments or recommendations for any plan before their panel but for which they do not have in-depth review responsibility.

4. Ad Hoc Review Form. USDA uses this in select cases (for Ad Hoc Reviewers who are not members of a review panel), a check-off listing of action classes at the end of the form allows them to provide an overall rating of the plan.

5. Recommendations for ARS Research Project Form—(Recommendations Form)—USDA uses this form to guide the panel's evaluation and critique of the review process. The form contains the recommendations of the panel for the subject research project.

6. Panel Expense Report Form (Expense Report)—USDA uses this form to document a panel reviewer's expense incurred traveling to and attending a peer review meeting. The Expense Report includes lodging, meals, and transportation expenses. When completed, the form contains sensitive information, but is used only in the rare circumstance that a panel meeting requires travel of the participants.

7. Panel Invoice Form (Honorarium Form)—USDA uses this form to document the transfer of an honorarium to a peer reviewer. Reviewers receive honoraria as compensation for serving as peer review panelists. This form requires an original signature. It is used only in special circumstances where reviewers cannot accept a direct bank transfer of the honorarium. In such cases this is used in lieu of the SF-1034 to provide OSQR a written record of the honorarium payment.

(1) USDA's collection of information on the Confidentiality Agreement Form is needed to document that a selected reviewer is responsible for keeping confidential any information learned during the subject peer review process. The Confidentiality Agreement would be signed prior to the reviewer's involvement in the peer review process.

(2) USDA's collection of information on the Panelist Information Form is needed to gather up-to-date background information about the reviewer. It contains sensitive information.

(3) USDA's collection of information on the Peer Review Form and Reviewer Comment Form is needed to guide the reviewer's comments on the subject project. Both contain review guidance and space to insert comments.

(4) USDA's collection of information on the Ad Hoc Review Form is needed to guide reviewer comments of those not participating in a chaired panel and affords a place to select an overall Action Class rating for the plan.

(5) USDA's collection of information on the Recommendations Form is needed to guide the panel's critique of the review process. It contains the recommendations of the panel for the subject research project.

(6) USDA's collection of information on the Expense Report Form is needed to document a panel reviewer's expenses incurred by attending a peer review meeting. The Expense Report includes lodging, meals, and transportation expenses. It includes sensitive information.

(7) USDA's collection of information on the Honorarium Form is needed to document the transfer of an honorarium to the peer reviewer in those rare cases where an SF-1034 is not completed. The honorarium is given to reviewers as appreciation for their time spent on the panel review process.

Estimate of Burden: The burden associated with this approval process is the minimum required to achieve program objectives. The information collection frequency is the minimum consistent with program objectives. The following estimates of time required to complete the forms are based on OSQR's experience in working with reviewers and accepting their input into our procedures.

1. Confidentiality Agreement Form: This form takes up to10 minutes to complete. It only requires a signature and date, but the reviewer must read and consider the terms of the agreement.

2. Panelist Information Form: This form takes about 30 minutes to complete. It resembles a typical request for personal information; many reviewers provide the same data as grant reviewers in other peer review programs.

3. Peer Review of an ARS Research Project Form (Peer Review Form). This form may take 4-7 hours to complete. Because this is a review, the page length varies. Reviewers are free to write as much as they wish, but to complete the form they must thoroughly read and evaluate a research project plan that may exceed 60-70 pages in length.

4. Reviewer Comment Form (New). This form takes 1 hours to complete. It typically contains a general assessment of the plan with only brief comments and is usually one page or less when completed.

5. Recommendations for ARS Research Project Form (Recommendations Form).

This form takes 1-2 hours to complete. Because this is a review, the page length significantly varies. For most plans it is completed by the OSQR from the Peer Review Forms and Reviewer Comment Forms and reviewed and revised by reviewers as part of their panel discussions. For the rare occasion where a panel meets in-person, the form is prepared by the designated primary reviewer for that plan who combines comments from all reviewers as found on the Peer Review Form and Reviewer Comment Form, and further analyses derived from the panel's discussions.

5. Panel Expense Report Form (Expense Report): This form takes 30 minutes to complete.

6. Panel Invoice Form (Honorarium Form): This form takes 3 minutes to complete. This form has the reviewer's personal information pre-filled and the reviewer only verifies its accuracy and signs.

Respondents and Estimated Number of Respondents: Scientific experts, currently working in the same discipline as the research projects under review, are selected to review research projects. These experts are notable peers within and external to the ARS. Annually, about 165 peer reviewers complete these forms. As most plans are discussed using an online/telephone conference utility travel is not generally required and, thus, most reviewers do not complete Expense Report and Invoice Forms.

Frequency of Response:
Form | Number of respondents | Annual frequency
Confidentiality Agreement | 165 | 1 per respondent (Total of 165).
Peer Review Forms (Required for all reviewers and they have 2 review assignments on average.) | 155 | 2 per panel respondent (Total of 310.).
Reviewer Comment Form (Optional where reviewer does not have primary or secondary review assignment for a plan) | 155 | On average, 2 per panel respondent (Total of 310).
Expense Report (Only for those reviewers traveling to the review) | 10 | 1 per respondent (Total of 10).
Honorarium Form (Only for those reviewers paid by check) | 10 | 1 per respondent (Total of 10).
Panelist Information Forms | 165 | 1 per respondent for each form (Total of 165).
Recommendations Form (For use only for panels not meeting online.) | 10 | 2 per respondent (Total of 20).

Estimated Total Annual Burden on Respondents
Form (time required to complete) | Number completed annually | Total burden (hr.)
Confidentiality Agreement (10 min.) | 165 | 28
Panelist Information Forms (30 min.) | 155 | 78
Peer Review Forms (~6 hrs) | 155 | 930
Recommendations Form (2 hr) | 10 | 20
Reviewer Comment Form (New) (1 hr) | 310 | 310
Honorarium Form (3 min.) | 10 | .5
Expense Report (30 min.) | 10 | 5

Authority: The Paperwork Reduction Act of 1995, 44 U.S.C. chap.35.

Comments: The Notice is soliciting comments from members of the public and affected agencies concerning the proposed collection of information to: (1) Evaluate whether the proposed collection is necessary for the proper performance of ARS functions, including whether the information will have practical utility; (2) Evaluate the accuracy of the estimated burden from proposed collection of information; (3) Enhance the quality, utility, and clarity of the information to be collected; and (4) Minimize the burden of the collection of information on those who are to respond, including the use of appropriate automated collection techniques or other forms of information technology, e.g., permitting electronic submission of responses. All responses to this notice will be summarized and included in the request for OMB approval.

All comments will become a matter of public record.

Dated: December 9, 2015.
Simon Y. Liu,
Associate Administrator, ARS.

[FR Doc. 2015-32065 Filed 12-21-15; 8:45 am]

BILLING CODE 3410-03-P